DEPARTMENT OF ENERGY

Federal Energy Regulatory Commission

Combined Notice of Filings #1

Take notice that the Commission received the following exempt wholesale generator filings:

Docket Numbers: EG22-152-000.

Applicants: Northwest Ohio IA, LLC.

Description: Northwest Ohio IA, LLC submits Notice of Self-Certification of Exempt Wholesale Generator Status.

Filed Date: 6/23/22.

Accession Number: 20220623-5184.

Comment Date: 5 p.m. ET 7/14/22.

Docket Numbers: EG22-153-000.

Applicants: Northwest Ohio Solar, LLC.

Description: Northwest Ohio Solar, LLC submits Notice of Self-Certification of Exempt Wholesale Generator Status.

Filed Date: 6/23/22.

Accession Number: 20220623-5185.

Comment Date: 5 p.m. ET 7/14/22.

Docket Numbers: EG22-154-000.

Applicants: EDPR CA Solar Park LLC.

Description: Notice of Self-Certification of Exempt Wholesale Generator Status of EDPR CA Solar Park LLC under.

Filed Date: 6/24/22.

Accession Number: 20220624-5147.

Comment Date: 5 p.m. ET 7/15/22.

Docket Numbers: EG22-155-000.

Applicants: EDPR CA Solar Park II LLC.

Description: EDPR CA Solar Park II LLC submits Notice of Self-Certification of Exempt Wholesale Generator Status.

Filed Date: 6/24/22.

Accession Number: 20220624-5152.

Comment Date: 5 p.m. ET 7/15/22.

Docket Numbers: EG22-156-000.

Applicants: EDPR Scarlet I LLC.

Description: Notice of Self-Certification of Exempt Wholesale Generator Status of EDPR Scarlet I LLC.

Filed Date: 6/24/22.

Accession Number: 20220624-5153.

Comment Date: 5 p.m. ET 7/15/22.

Take notice that the Commission received the following electric rate filings:

Docket Numbers: ER18-1150-006.

Applicants: Trishe Wind Ohio, LLC.

Description: Notice of Non-Material Change in Status of Northwest Ohio Wind, LLC.

Filed Date: 6/24/22.

Accession Number: 20220624-5016.

Comment Date: 5 p.m. ET 7/15/22.

Docket Numbers: ER20-1085-002.

Applicants: Virginia Electric and Power Company, PJM Interconnection, L.L.C.

Description: Compliance filing: Virginia Electric and Power Company submits tariff filing per 35: Dominion submits Second Order No. 864 Compliance Filing in ER20-1085 to be effective N/A.

Filed Date: 6/24/22.

Accession Number: 20220624-5098.

Comment Date: 5 p.m. ET 7/15/22.

Docket Numbers: ER22-1520-001.

Applicants: Commonwealth Edison Company, PJM Interconnection, L.L.C.

Description: Tariff Amendment: Commonwealth Edison Company submits tariff filing per 35.17(b): Commonwealth Edison submits response to May 26 Deficiency Notice to be effective 9/1/2022.

Filed Date: 6/24/22.

Accession Number: 20220624-5118.

Comment Date: 5 p.m. ET 7/15/22.

Docket Numbers: ER22-1645-001.

Applicants: Pacific Gas and Electric Company.

Description: Compliance filing: Compliance Filing E&P Proforma Letter Agreement WDT to be effective 6/15/2022.

Filed Date: 6/24/22.

Accession Number: 20220624-5087.

Comment Date: 5 p.m. ET 7/15/22.

Docket Numbers: ER22-2025-000.

Applicants: Southern California Edison Company.

Description: Report Filing: SCE Errata to Tule Hydropower LA to Correct Effective Date (ER22-2025) to be effective N/A.

Filed Date: 6/23/22.

Accession Number: 20220623-5067.

Comment Date: 5 p.m. ET 7/14/22.

Docket Numbers: ER22-2180-000.

Applicants: New York State Electric & Gas Corporation.

Description: § 205(d) Rate Filing: Certificate of Concurrence to CSRA to be effective 8/22/2022.

Filed Date: 6/23/22.

Accession Number: 20220623-5164.

Comment Date: 5 p.m. ET 7/14/22.

Docket Numbers: ER22-2181-000.

Applicants: Rochester Gas and Electric Corporation.

Description: § 205(d) Rate Filing: Certificate of Concurrence to CSRA to be effective 8/22/2022.

Filed Date: 6/23/22.

Accession Number: 20220623-5168.

Comment Date: 5 p.m. ET 7/14/22.

Docket Numbers: ER22-2182-000.

Applicants: Bruce Power Inc.

Description: Compliance filing: Revised MBR Tariff and New eTariff Baseline Filing to be effective 6/24/2022.

Filed Date: 6/23/22.

Accession Number: 20220623-5171.

Comment Date: 5 p.m. ET 7/14/22.

Docket Numbers: ER22-2183-000.

Applicants: Central Hudson Gas & Electric Corporation.

Description: Central Hudson Gas and Electric Corporation submits Certificate of Concurrence and tariff record incorporating Con Ed's CSRA.

Filed Date: 6/22/22.

Accession Number: 20220622-5142.

Comment Date: 5 p.m. ET 7/13/22.

Docket Numbers: ER22-2184-000.

Applicants: City of Vernon, California.

Description: Tariff Amendment: Notice of Cancellation of Transmission Owner Tariff to be effective 10/7/2022.

Filed Date: 6/24/22.

Accession Number: 20220624-5015.

Comment Date: 5 p.m. ET 7/15/22.

Docket Numbers: ER22-2185-000.

Applicants: Black Hills Colorado Electric, LLC.

Description: § 205(d) Rate Filing: Transmission Formula Rate Template and Protocols to be effective 9/1/2022.

Filed Date: 6/24/22.

Accession Number: 20220624-5032.

Comment Date: 5 p.m. ET 7/15/22.

Docket Numbers: ER22-2186-000.

Applicants: AEP Texas Inc.

Description: § 205(d) Rate Filing: AEPTX-Los Vientos Windpower 1B 1st A&R Generation Interconnection Agreement to be effective 6/3/2022.

Filed Date: 6/24/22.

Accession Number: 20220624-5036.

Comment Date: 5 p.m. ET 7/15/22.

Docket Numbers: ER22-2187-000.

Applicants: Northwest Ohio Solar, LLC.

Description: Baseline eTariff Filing: Application of Northwest Ohio Solar, LLC for Market-Based Rate Authority to be effective 8/23/2022.

Filed Date: 6/24/22.

Accession Number: 20220624-5050.

Comment Date: 5 p.m. ET 7/15/22.

Docket Numbers: ER22-2188-000.

Applicants: Northwest Ohio IA, LLC.

Description: Baseline eTariff Filing: Application of Northwest Ohio IA, LLC for Market-Based Rate Authority to be effective 8/23/2022.

Filed Date: 6/24/22.

Accession Number: 20220624-5051.

Comment Date: 5 p.m. ET 7/15/22.

Docket Numbers: ER22-2189-000.

Applicants: Vermont Transco LLC.

Description: § 205(d) Rate Filing: Shared Structure Participation Agreements Filing to be effective 1/1/2022.

Filed Date: 6/24/22.

Accession Number: 20220624-5064.

Comment Date: 5 p.m. ET 7/15/22.

Docket Numbers: ER22-2190-000.

Applicants: EDPR CA Solar Park LLC.

Description: Baseline eTariff Filing: Market-Based Rate Application to be effective 8/24/2022.

Filed Date: 6/24/22.

Accession Number: 20220624-5117.

Comment Date: 5 p.m. ET 7/15/22.

Docket Numbers: ER22-2191-000.

Applicants: EDPR CA Solar Park II LLC.

Description: Baseline eTariff Filing: Market-Based Rate Application to be effective 8/24/2022.

Filed Date: 6/24/22.

Accession Number: 20220624-5119.

Comment Date: 5 p.m. ET 7/15/22.

Docket Numbers: ER22-2192-000.

Applicants: EDPR Scarlet I LLC.

Description: Baseline eTariff Filing: Market-Based Rate Application to be effective 8/24/2022.

Filed Date: 6/24/22.

Accession Number: 20220624-5120.

Comment Date: 5 p.m. ET 7/15/22.

Docket Numbers: ER22-2193-000.

Applicants: Duke Energy Florida, LLC.

Description: § 205(d) Rate Filing: DEF-TECO Concurrence RS No. 379 to be effective 9/1/2022.

Filed Date: 6/24/22.

Accession Number: 20220624-5129.

Comment Date: 5 p.m. ET 7/15/22.

Docket Numbers: ER22-2194-000.

Applicants: Northern Indiana Public Service Company LLC.

Description: § 205(d) Rate Filing: Porter CIAC Agreement to be effective 6/18/2022.

Filed Date: 6/24/22.

Accession Number: 20220624-5135.

Comment Date: 5 p.m. ET 7/15/22.

Take notice that the Commission received the following PURPA 210(m)(3) filings:

Docket Numbers: QM22-12-000.

Applicants: PPL Electric Utilities Corporation.

Description: Application of PPL Electric Utilities Corporation to Terminate Its Mandatory Purchase Obligation under the Public Utility Regulatory Policies Act of 1978.

Filed Date: 6/23/22.

Accession Number: 20220623-5173.

Comment Date: 5 p.m. ET 7/21/22.

Docket Numbers: QM22-13-000.

Applicants: Upper Michigan Energy Resources Corporation.

Description: Application of Upper Michigan Energy Resources Group to Terminate Its Mandatory Purchase Obligation under the Public Utility Regulatory Policies Act of 1978.

Filed Date: 6/24/22.

Accession Number: 20220624-5151.

Comment Date: 5 p.m. ET 7/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2022.
Debbie-Anne A. Reese,
Deputy Secretary.

[FR Doc. 2022-14011 Filed 6-29-22; 8:45 am]

BILLING CODE 6717-01-P